DEPARTMENT OF THE INTERIOR

Bureau of Land Management

[OR-958-1430-EU: GP01-0014; OR 51858]

Notice of Realty Action, Exchange of Public Lands

AGENCY: Bureau of Land Management, Interior.

SUMMARY: The Oregon Land Exchange Act of 2000 (OLEA), Pub. L. 106-257, requires the Bureau of Land Management (BLM) to exchange certain described public lands within 90 days after reaching agreement with Clearwater Land Exchange on the final appraised values. In the Northeast Oregon Assembled Land Exchange (NOALE) Final Environmental Impact Statement, dated June 29, 1998, the BLM examined these public lands and found them suitable for exchange under section 206 of the Federal Land Policy and Management Act of 1976 (43 U.S.C. 1716), as amended.

The first transaction of the OLEA involves the exchange of approximately 35,055 acres of Federal land for approximately 35,712 acres of private lands. There will be at least one additional exchange, and likely a third and final transaction in order to fully carry out the requirements of the OLEA.

ACTION: 1. The BLM will exchange the following described public lands under the authority of the Oregon Land Exchange Act of 2000, subject to valid existing rights

Willamette Meridian

T. 3 S., R. 32 E.,

Sec. 02, W½SE¼.

T. 4 S., R. 28 E.,

Sec. 01, SE¼NE¼ and N½SE¼;

Sec.15, NE¼NE¼.

T. 4 S., R. 29 E.,

Sec. 03, NE¼SE¼.

T. 4 S., R. 30 E.,

Sec. 01, lot 2;

Sec. 02, lot 4;

Sec. 10, SE¼SW¼ and NW¼SE¼;

Sec. 13, N½NW¼.

T. 4 S., R. 31 E.,

Sec. 12, SW¼NE¼ and SW¼NW¼;

Sec. 19, lot 4;

Sec. 23, SE¼SE¼;

Sec. 30, lots 1, 2, and 3, and SE¼NW¼ and E½SW¼.

T. 4 S., R. 32 E.,

Sec. 18, N½NE¼.

T. 5 S., R. 27 E.,

Sec. 03, NW¼SW¼;

Sec. 17, NE¼SE¼.

T. 5 S., R. 31 E.,

Sec. 17, N½SE¼;

Sec. 18, lots 2 and 3;

Sec. 21, SW¼NW¼.

T. 5 S., R. 33 E.,

Sec. 21, SW¼NW¼.

T. 6 S., R. 23 E.,

Sec. 23, NE¼SW¼.

T. 6 S., R. 25 E.,

Sec. 01, lot 1;

Sec. 06, lot 4;

Sec. 07, NE¼SE¼;

Sec. 08, NW¼SW¼;

Sec. 10, E½SW¼ and S½SE¼;

Sec. 15, N½NE¼ and NE¼NW¼;

Sec. 19, lot 3.

T. 6 S., R. 33 E.,

Sec. 6, lot 5.

T. 7. S, R. 22 E.,

Sec. 12, lot 3 and NW¼NE¼;

Sec. 14, NW¼SE¼;

Sec. 20, SW¼NE¼;

Sec. 23, NW¼SW¼;

Sec. 25, NE¼NE¼ and S½NW¼;

Sec. 26, S½NE¼ and SE¼SE¼;

Sec. 34, NE¼SW¼.

T. 7 S., R. 29 E.,

Sec. 14, S½NW¼;

Sec. 15, SE¼NE¼;

Sec. 17, NW¼SE¼.

T. 7 S., R. 30 E.,

Sec. 15, NW¼NE¼;

Sec. 23, SE¼SW¼ and NE¼SE¼;

Sec. 24, NE¼NE¼.

T. 8 S., R. 21 E.,

Sec. 05, lot 1;

Sec. 14, lot 5.

T. 8 S., R. 22 E.,

Sec. 01, lots 1, 3 and 5;

Sec. 04, SE¼NW¼;

Sec. 06, SE¼SW¼;

Sec. 07, lot 6 and NE¼NW¼;

Sec. 10, lot 4;

Sec. 11, SE¼SW¼;

Sec. 24, lots 3 and 4, and W½E½;

Sec. 25, lots 1-4, and W½NE¼ and NW¼SE¼;

Sec. 26, lots 1 and 2, NW¼SE¼ and S½SE¼;

Sec. 34, NE¼SE¼;

Sec. 35, N½NE¼.

T. 8 S., R. 23 E.,

Sec. 09, S½SW¼;

Sec. 19, E½SW¼ and SW¼SE¼;

Sec. 30, lots 2 and 3, and SE¼SW¼.

T. 8 S., R. 27 E.,

Sec. 14, N½NW¼;

Sec. 15, N½NE¼ and W½SW¼;

Sec. 25, NW¼SE¼;

Sec. 29, N½SW¼;

Sec. 32, W½SW¼;

Sec. 35, SE¼SW¼.

T. 8 S., R. 28 E.,

Sec. 11, S½NE¼, E½SW¼, NE¼SE¼, W½SE¼, and N½SE¼SE¼;

Sec. 12, S½NE¼, S½NW¼, N½SW¼, and N½SW¼SW¼;

Sec. 14, NW¼NE¼, NE¼NW¼, NW¼SW¼ and NW¼SE¼;

Sec. 15, E½SW¼;

Sec. 22, SW¼NW¼ and NE¼SE¼;

Sec. 23, SW¼SW¼;

Sec. 26, SW¼SE¼;

Sec. 27, SW¼SE¼;

Sec. 31, lots 9 and 10.

T. 8 S., R. 29 E.,

Sec. 05, SW¼NW¼;

Sec. 07, lots 7-9, 16-19, 21 and 22;

Sec. 09, SW¼NW¼;

Sec. 18, lot 15;

Sec. 22, SW¼SE¼;

Sec. 27, NE¼, E½NW¼ and NW¼SE¼.

T. 8 S., R. 30 E.,

Sec. 12, SE¼NW¼;

Sec. 14, NE¼NE¼;

Sec. 20, SW¼NW¼;

Sec. 24, S½SW¼.

T. 8 S., R. 31 E.,

Sec. 23, NE¼NW¼;

Sec. 32, NE¼NW¼ and NW¼SW¼.

T. 9 S., R. 26 E.,

Sec. 01, lots 1 and 2, and S½NE¼ and NE¼SE¼;

Sec. 03, lots 3 and 4, and SW¼NE¼ and S½NW¼;

Sec. 04, S½SW¼;

Sec. 10, E½ and E½SW¼;

Sec. 11, SW¼NE¼ and SW¼;

Sec. 14, N½NW¼, NW¼SW¼ and NE¼SE¼;

Sec. 15, NE¼NE¼;

Sec. 22, SW¼SW¼;

Sec. 27, SE¼SE¼.

T. 9 S., R. 27 E.,

Sec. 03, lots 2 and 3;

Sec. 04, lot 1;

Sec. 05, lot 1 and SE¼NE¼ and W½SW¼;

Sec. 06, lots 4-6, inclusive, and SW¼NE¼, SE¼NW¼, NE¼SW¼ and NW¼SE¼;

Sec. 11, W½SE¼;

Sec. 14, NW¼NE¼;

Sec. 18, S½NE¼, N½SE¼ and SE¼SE¼;

Sec. 19, NE¼NE¼, S½NE¼, N½SE¼ and SW¼SE¼;

Sec. 23, E½SW¼ and E½SE;

Sec. 24, NW¼NE¼, S½NE¼, NW¼NW¼, S½NW¼ and S½;

Sec. 25, N½NE¼, SW¼NE¼, NE¼NW¼ and S½SE¼;

Sec. 26, NE¼NE¼, SE¼SW¼ and NW¼SE¼;

Sec. 29, S½NE¼, N½SE¼ and SW¼SE¼;

Sec. 30, NW¼NE¼ and SE¼NE¼;

Sec. 32, N½NE¼ and NE¼NW¼;

Sec. 34, E½E½;

Sec. 35, W½NW¼, SW¼ and SW¼SE¼.

T. 9 S., R. 28 E.,

Sec. 04, SW¼NE¼;

Sec. 05, lot 8;

Sec. 06, lots 1, 2, 3, 6 and 7, and SW¼NE¼, NE¼SW¼ and NW¼SE¼;

Sec. 07, W½NE¼ and NE¼NW¼;

Sec. 08, SW¼SW¼;

Sec. 09, SE¼SW¼;

Sec. 17, SW¼NE¼ and S½NW¼;

Sec. 18, SE¼SE¼;

Sec. 20, SW¼NE¼, N½SW¼ and SE¼NW¼;

Sec. 22, N½NE¼ and SE¼NE¼;

Sec. 27, SW¼NE¼ and S½NW¼;

Sec. 28, S½NE¼ and SE¼NW¼;

Sec. 29, W½, N½SE¼ and SW¼SE¼;

Sec 30, SE¼NE¼ and E½SE¼;

Sec. 31, lot 1, and N½NE¼, SE¼NE¼, NE¼NW¼ and NE¼SE¼;

Sec. 34, NW¼NE¼ and SE¼NE¼.

T. 9 S., R. 29 E.,

Sec. 21, SE¼NE¼;

Sec. 30, N½SE¼;

Sec. 31, lot 3, and SW¼NE¼ and E½NW¼.

T. 9 S., R. 31 E.,

Sec. 08, NW¼SE¼;

Sec. 15, SE¼SE¼;

Sec. 23, NE¼NW¼.

T. 9 S., R. 32 E.,

Sec. 04, lot 1;

Sec. 05, lot 1 and 2;

Sec. 18, SE¼SW¼ and SW¼SE¼;

Sec. 22, NW¼SW¼;

Sec. 27, SE¼SW¼.

T. 10 S., R. 27 E.,

Sec. 01, lot 1 and SE¼NE¼;

Sec. 03, SE¼NE¼;

Sec. 05, NE¼SW¼ and NW¼SE¼;

Sec. 10, W½NW¼, NW¼SW¼ and SE¼SW¼;

Sec. 14, NE¼NE¼;

Sec. 15, W½NW¼ and NW¼SW¼;

Sec. 22, S½SW¼;

Sec. 26, NW¼SW¼;

Sec. 27, NE¼SE¼.

T. 10 S., R. 28 E.,

Sec. 07, NE¼SW¼ and NW¼SE¼;

Sec. 16, SW¼NE¼, NE¼SW¼, SW¼SW¼ and NW¼SE¼;

Sec. 22, SE¼SW¼;

Sec. 23, NE¼NW¼, NE¼SW¼ and SW¼SW¼;

Sec. 26, NW¼NW¼ and SE¼SW¼;

Sec. 27, NW¼NE¼ and N½NW¼;

Sec. 33, NW¼SE¼.

T. 10 S., R. 29 E.,

Sec. 01, SE¼NE¼;

Sec. 13, SW¼NW¼;

Sec. 14, SE¼NE¼;

Sec. 30, lot 2.

T. 10 S., R. 30 E.,

Sec. 21, SW¼NW¼;

Sec. 32, NE¼NW¼.

T. 10 S., R. 31 E.,

Sec. 21, NW¼NE¼;

Sec. 29, W½SW¼;

Sec. 30, lot 2.

T. 11. S, R. 27 E.,

Sec. 11, N½NE¼.

T. 11 S., R. 28 E.,

Sec. 05, SE¼SW¼;

Sec. 06, lot 1 and SE¼NE¼;

Sec. 17, SW¼SW¼;

Sec. 20, W½NW¼;

Sec. 21, NE¼NE¼.

T. 11 S., R. 29 E.,

Sec. 29, SW¼ and SW¼SE¼;

Sec. 30, lot 3 and NW¼NE¼;

Sec. 32, NW¼NE¼ and NE¼NW¼.

T. 12 S., R. 27 E.,

Sec. 06, lot 10;

Sec. 15, NE¼NE¼;

Sec. 20, N½, N½S½, S½SW¼ and SW¼SE¼;

Sec. 26, W½ and W½E½;

Sec. 28, W½NE¼ and W½;

Sec. 34, All.

T. 12 S., R. 29 E.,

Sec. 28, E½NW¼;

Sec. 34, W½SW¼.

T. 12 S., R. 30 E.,

Sec. 24, SE¼NE¼, W½, W½E½, and NE¼SE¼;

Sec. 25, NW¼NW¼.

T. 12 S., R. 31 E.,

Sec. 26, SW¼SE¼;

Sec. 30, SE¼NE¼ and E½SE¼.

T. 12 S., R. 32 E.,

Sec. 32, NW¼SW¼.

T. 13 S., R. 27 E.,

Sec. 02, Four unnumbered lots in the N½N½, S½N½ and SE¼;

Sec. 12, SE¼NE¼ and NE¼SE¼.

T. 13 S., R. 28 E.,

Sec. 14, N½;

Sec. 17, SE¼;

Sec. 18, lots 3 and 4;

Sec. 19, lot 1, and E½NE¼;

Sec. 20, N½NE¼, SW¼NE¼, N½NW¼ and SW¼NW¼;

Sec. 22, S½SE¼;

Sec. 24, NE¼SE¼ and SW¼SE¼;

Sec. 29, SW¼SE¼;

Sec. 34, NW¼NE¼.

T. 13 S., R. 29 E.,

Sec. 06, lots 3-7, inclusive, and SE¼NW¼;

Sec. 08, All;

Sec. 24, NE¼ and W½NW¼;

Sec. 28, W½SW¼.

T. 13 S., R. 30 E.,

Sec. 04, SE¼SE¼;

Sec. 06, lots 1-4, inclusive;

Sec. 14, NW¼NE¼, NE¼NW¼ and S½SE¼;

Sec. 18, lots 1 and 2, and NE¼, E½NW¼ and SE¼.

T. 13 S., R. 31 E.,

Sec. 04, lots 1 and 2, and S½NE¼, NE¼SW¼ and SE¼;

Sec. 28, S½SW¼.

T. 13 S., R. 32 E.,

Sec. 08, SE¼SE¼;

Sec. 20, NE¼ and N½SW¼;

T. 13 S., R. 33 E.,

Sec. 04, lots 3 and 4, and S½NW¼ and SW¼;

Sec. 06, lot 2 and SW¼NE¼ and W½SE¼;

Sec. 22, NE¼NE¼.

T. 14 S., R. 30 E.,

Sec. 03, NW¼SW¼;

Sec. 07, E½NE¼;

Sec. 11, NW¼SE¼.

T. 14 S., R 31 E.,

Sec. 03, lots 3 and 4;

Sec. 05, lots 3 and 4, and NE¼SW¼.

T. 16 S., R. 30 E.,

Sec. 01, lot 2.

T. 17 S., R. 26 E.,

Sec. 13, NE¼NE¼, SE¼NW¼ and W½SE¼;

Sec. 17, NW¼NE¼;

Sec. 20, NW¼SW¼;

Sec. 22, SE¼NW¼;

Sec. 29, SE¼NE¼, W½NW¼ and N½SE¼;

Sec. 30, SE¼NE¼, SW¼SE¼ and E½SE¼;

Sec. 31, W½NE¼, NW¼SE¼ and SE¼SE¼;

Sec. 32, NW¼NE¼, SW¼SW¼ and NW¼SE¼.

T. 17 S., R. 27 E.,

Sec. 01, NW¼SW¼;

Sec. 02, NE¼SE¼ and S½S½;

Sec. 08, NE¼NE¼ and W½E½;

Sec. 09, N½NE¼, SE¼NE¼, NW¼NW¼, E½SW¼, W½SE¼ and SE¼SE¼;

Sec. 10, W½NE¼, NE¼NE¼ and S½SE¼;

Sec. 11, NW¼NW¼;

Sec. 12, N½SE¼ and SW¼SE¼;

Sec. 13, NW¼NE¼;

Sec. 15, E½NE¼, NW¼NW¼, S½NW¼, SW¼ and NE¼SE¼;

Sec. 17, NW¼NE¼;

Sec. 18, lot 3;

Sec. 21, W½E½;

Sec. 26, NE¼SW¼;

Sec. 27, SW¼;

Sec. 28, E½ and SE¼SW¼;

Sec. 29, E½NE¼ and SW¼SE¼;

Sec. 30, lots 2, 3 and 4;

Sec. 31, lots 1-4, inclusive;

Sec. 33, N½, W½SW¼ and SE¼;

Sec. 34, W½ and S½SE¼.

T. 17 S., R. 29 E.,

Sec. 19, SE¼NE¼.

T. 18 S., R. 26 E.,

Sec. 04, NE¼SW¼;

Sec. 05, lot 4;

Sec. 08, NE¼SW¼ and SW¼SW¼;

Sec. 17, W½NW¼;

Sec. 19, NE¼SE¼;

Sec. 26, SE¼NE¼;

Sec. 28, NW¼NE¼ and E½NW¼.

T. 18 S., R. 27 E.,

Sec. 02, SW¼SW¼;

Sec. 03, lots 3 and 4, S½NW¼ and SW¼;

Sec. 04, lots 1-4, inclusive, and NE¼SE¼;

Sec. 05, lots 3 and 4, and S½SE¼;

Sec. 06, SE¼SE¼;

Sec. 08, NE¼ and N½S½;

Sec. 09, SE¼NE¼ and SW¼NW¼;

Sec. 10, N½NW¼, SW¼NW¼ and NW¼SE¼;

Sec. 11, S½NE¼;

Sec. 12, S½N½.

T. 18 S., R. 28 E.,

Sec. 05, lot 1, S½N½ and NW¼SW¼;

Sec. 06, lots 1-7, inclusive, and S½NE¼, SE¼NW¼ and NE¼SW¼;

Sec. 07, S½NE¼ and N½SE¼;

Sec. 08, NW¼NE¼, N½NW¼, S½N½ and N½S½;

Sec. 09, S½NW¼, NW¼SW¼ and E½SE¼;

Sec. 10, W½SW¼ and SE¼SW¼;

Sec. 11, SE¼NE¼, S½SW¼ and NE¼SE¼;

Sec. 14, SW¼SW¼;

Sec. 17, NE¼, NE¼NW¼, S½NW¼, SW¼, N½SE¼ and SW¼SE¼;

Sec. 21, NE¼NE¼ and SE¼SE¼;

Sec. 22, S½SW¼;

Sec. 23, NW¼NW¼;

Sec. 27, E½;

Sec. 28, SW¼NE¼, W½SE¼ and SE¼SE¼;

Sec. 33, E½E½.

T. 18 S., R. 29 E.,

Sec. 18, NE¼SW¼;

Sec. 19, lot 3.

The above described land aggregates approximately 35,055 acres, more or less, in the counties of Grant, Morrow, Umatilla and Wheeler, Oregon.

2. In exchange, the BLM will acquire the following described private lands under the authority of the Oregon Land Exchange Act of 2000, subject to valid existing rights:

Willamette Meridian

T. 06 S., R. 28 E.,

Sec 36, E½W½, E½ and SW¼SW¼.

T. 06 S., R. 29 E.,

Sec 31, lots 2-4, 7, 9, 10-11, 14-16, and W½NE¼, SE¼NE¼ and SE¼;

Sec 32, SW¼;

Sec 36, All.

T. 06 S., R. 30 E.,

Sec 06, lots 1-3, inclusive, and SE¼NW¼, S½NE¼, E½SW¼ and SE¼;

Sec 07, lots 1-4, inclusive, and E½ and E½W½;

Sec 18, lots 1-4, inclusive, and E½ and E½W½;

Sec 19, lots 2, 3, 4 and NE¼, E½NW¼, E½SW¼ and SE¼;

Sec 23, S½NE¼, S½NW¼, N½SW¼ and SE¼;

Sec 24, NE¼, NE¼NW¼, S½NW¼ and S½;

Sec 25, N½, N½SW¼ and NW¼SE¼;

Sec 26, NE¼, NE¼SW¼, S½SW¼ and SE¼;

Sec 27, NE¼SW¼, S½SW¼ and SE¼;

Sec 28, SE¼NW¼ and SW¼;

Sec 30, lots 1-4, inclusive, and E½ and E½W½;

Sec 31, lots 1-4, inclusive, E½ and E½W½;

Sec 32, N½, W½SW¼, NE¼SW¼ and SE¼;

Sec 33, N½NE¼, SE¼NE¼, W½ and SE¼;

Sec 34, E½, W½SW¼ and SE¼SW¼;

Sec 35, NW¼NE¼, S½NE¼, NW¼, SE¼SW¼, NE¼SE¼, W½NW¼SE¼ and SW¼SE¼;

Sec 36, E½ and NW¼.

T. 06 S., R. 31 E.,

Sec 18, SW¼NE¼, NE¼NW¼, E½SW¼ and SW¼SE¼;

Sec 19, lots 1-3, inclusive, and SW¼NE¼, E½NW¼, NE¼SW¼, and NW¼SE¼;

Sec 29, S½SE¼; Excepting therefrom that tract of land conveyed to Blanche Irene Halstead by deed recorded in Book 322, Page 197, Deed Records;

Sec 30, SE¼SW¼ and SW¼SE¼;

Sec 31, lot 2, W½NE¼, SE¼NE¼, E½NW¼, E½SW¼ and SE¼;

Sec 32, NW¼NE¼, S½NE¼, SE¼NW¼, N½SW¼, SE¼SW¼ and SE¼;

Sec 33, W½SW¼ and SE¼SW¼.

T. 07 S., R. 28 E.,

Sec 01, lots 1-4, inclusive, and NW¼SW¼, S½SW¼ and SE¼;

Sec 07, SE¼NE¼, E½SE¼ and SW¼SE¼;

Sec 08, N½, NE¼SW¼, S½SW¼ and SE¼;

Sec 09, All;

Sec 10, W½NE¼, W½, NW¼SE¼, W½E½SE¼, E½E½SE¼; and a parcel of land in the E½NE¼ described as follows: Beginning at the NW corner of the E½NE¼ of said sec. 10; thence South 2640.0 feet, more or less, to the SW corner of said E½NE¼; thence East 1320.0 feet, more or less, to the SE corner of said E½NE¼; thence Northwesterly, on a straight line, to the place of beginning;

Sec 11, SE¼NE¼, SE¼SW¼, S½SE¼, and a parcel of land in the W½SW¼ described as follows: Beginning at the NW corner of the W½SW¼ of said sec. 11; thence South 2640.0 feet, more or less, to the SW corner of said W½SW¼; thence East 1320.0 feet, more or less, to the SE corner of said W½SW¼; thence Northwesterly, on a straight line to the place of beginning;

Sec 12, W½NE¼, SE¼NE¼, E½NW¼, SW¼NW¼ and S½;

Sec 13, NE¼, NE¼NW¼, S½NW¼ and S½;

Sec 14, NE¼NE¼, S½NE¼, SE¼ and W½;

Sec 15, N½, SW¼, N½SE¼ and SW¼SE¼;

Sec 16, All;

Sec 17, NE¼NE¼, W½E½, W½NW¼ and SW¼;

Sec 18, lots1-12, inclusive, and E½; SAVE & EXCEPT that portion lying southerly and westerly of the centerline of Little Wall Creek;

Sec 19, lots 1, 2, 5, 6, 7, 8, and 12, and E½: SAVE & EXCEPT that portion lying westerly of the centerline of Little Wall Creek;

Sec 20, All;

Sec 21, All;

Sec 22, E½ and NW¼;

Sec 23, All;

Sec 24, All;

Sec 25, N½NE¼, NW¼, NW¼SW¼, S½SW¼ and SW¼SE¼;

Sec 26, S½NE¼, SW¼NW¼, S½ and N½N½;

Sec 27, E½;

Sec 28, N½N½;

Sec 29, N½, NW¼SW¼, E½SW¼ and SE¼;

Sec 30, lots 1 and 6, and NE¼ and N½SE¼: SAVE & EXCEPT that portion lying westerly of the centerline of Little Wall Creek;

Sec 33, S½SE¼;

Sec 34, N½NE¼;

Sec 35, N½NE¼ and NW¼NW¼.

T. 07 S., R. 29 E.,

Sec 01, lots 1-4, inclusive, and SW¼NW¼, NW¼SW¼, SE¼SW¼ and SE¼;

Sec 02, lots 1-4, inclusive, and S½N½, E½SE¼ and SW¼SE¼;

Sec 03, lots 1-3, inclusive, and SE¼NW¼, S½NE¼ and SE¼;

Sec 04, S½SE¼;

Sec 06, lots 2-14,16-25, and SW¼NE¼;

Sec 07, lots 3-10, 16, 17, 18, 19, and 20;

Sec 08, S½N½ and N½S½;

Sec 09, N½NW¼, SE¼NW¼, NE¼ and NW¼SW¼;

Sec 10, N½, NE¼SW¼ and NE¼SE¼;

Sec 11, N½ and N½S½;

Sec 12, NE¼NW¼;

Sec 19, lots 7, 8, 9, 17, 18, 19, 20, and 21.

T. 07 S., R. 30 E.,

Sec 01, lots 1-3, inclusive, and, S½N½, N½S½ and SW¼SW¼;

Sec 02, lots 3 and 4, S½NW¼, SW¼, SE¼NE¼ and SE¼;

Sec 03, S½NE¼, NE¼SW¼, S½SW¼ and SE¼;

Sec 04, lots 3 and 4, S½NW¼, S½NE¼, S½SW¼ and SE¼;

Sec 05, lots 1, 3, and 4, and S½NW¼, S½NE¼, SW¼ and W½SE¼;

Sec 06, lots 1-7, inclusive, and SE¼NW¼, E½SW¼, S½NE¼ and SE¼;

Sec 07, lot 1 and NE¼NW¼ and NE¼;

Sec 08, W½NW¼;

Sec 09, W½NW¼, N½NE¼ and SE¼NE¼;

Sec 10, N½;

Sec 11, N½;

Sec 12, W½NW¼ and SE¼NW¼.

T. 08 S., R. 28 E.,

Sec 4, lot 1 and SE¼NE¼.

T. 14 S., R. 26 E.,

Sec 36, W½.

T. 16 S., R. 27 E.,

Sec 07, E½W½;

Sec 19, NE¼SE¼;

Sec 20, W½SE¼ and SW¼;

Sec 29, NE¼, E½NW¼, NW¼NW¼, and SW¼SE¼;

Sec 33, W½SW¼;

Sec 36, S½.

T. 17 S., R. 27 E.,

Sec 04, lot 4 (portion of).

The above described lands aggregate approximately 35,712 acres, more or less, in the counties of Grant, Morrow and Umatilla, Oregon.

Findings: In sec. 2 (3) and (4) of the OLEA, Congress found that consolidation of land ownerships through the exchange will facilitate sound and efficient management for both public and private lands, which will reduce administrative costs to the United States. Congress also found that the exchange will improve public access, aesthetic quality, and recreational opportunities within wild and scenic river corridors; and will provide protection and enhancement of habitat for threatened, endangered, or sensitive species. The NOALE Final Environmental Impact Statement supports these Congressional findings.

The appraisals show the value of the lands to be exchanged as approximately equal. Full equalization of values will be achieved by payment to the United States of funds in an amount not to exceed 25 percent of the total value of the public lands to be transferred.

Time and Place for Public Review: Upon publication of this notice in the Federal Register and in newspapers in general circulation in the vicinity of the public lands included in this exchange, beginning on Monday, October 30, 2000, the general public will have a 15 day review period to examine the comprehensive summaries of the appraisals for both the public and the private lands. The BLM is making these summaries available, in addition to the complete appraisals of the public and the private lands, in the public room of the Prineville District Office, the Baker Field Office, and the Land Office of the Oregon State Office.

ADDRESSES: The Comprehensive Summaries and Appraisals are available for inspection at the Prineville District Office, 3050 NE 3rd Street, Prineville, Oregon 97754, from 7:45 a.m. to 4:30 p.m., Monday through Friday. The Summaries and Appraisals are available for inspection at the Baker Field Office, 3165 10th Street, Baker City, Oregon 97814, from 7:45 a.m. to 4:30 p.m., Monday through Friday. You may also inspect these Summaries and the Appraisals, at the BLM's Oregon State Office, in the 7th floor Land Office, Branch of Realty and Records Services, 1515 S.W. 5th Avenue, Portland, Oregon 97201, from 8:30 a.m. to 4 p.m., Monday through Friday. All offices will be closed to the public on official holidays.

FOR FURTHER INFORMATION CONTACT: You may also receive detailed information on this exchange by writing or calling Barron Bail, District Manger, at the above Prineville address, phone 541-416-6700, Penny Dunn Woods, Field Office Manager, at the above Baker City address, phone 541-523-1256, or John K. Keith, Associate Deputy State Director for Management Services, at the above Portland address, phone 503-952-6091.

Dated: October 19, 2000.
Robert D. DeViney, Jr.,
Chief, Branch of Realty and Records Services.

[FR Doc. 00-27443 Filed 10-24-00; 8:45 am]

BILLING CODE 4310-33-P